DEPARTMENT OF TRANSPORTATION

Office of the Secretary

Notice of Applications for Certificates of Public Convenience and Necessity and Foreign Air Carrier Permits Filed Under Subpart B (Formerly Subpart Q) During the Week Ending June 23, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-3727.

Date Filed: June 19, 2006.

Due Date for Answers, Conforming Applications, or Motion to Modify Scope: July 10, 2006.

Description: Second Application of Ethiopian Airlines Enterprise requesting a further amendment to its application for an initial foreign air carrier permit to encompass the full extent of operating authority authorized under Annex I and Annex II of the U.S.-Ethiopia Open Skies Agreement.

Docket Number: OST-2004-19617.

Date Filed: June 22, 2006.

Due Date for Answers, Conforming Applications, or Motion to Modify Scope: July 13, 2006.

Description: Application of Eos Airlines, Inc., requesting a certificate of public convenience and necessity to engage in foreign scheduled air transportation of persons, property and mail between the United States and the United Kingdom (excluding London's Heathrow and Gatwick Airports), the Netherlands, and Germany, via intermediate points and to points beyond. By this application, Eos seeks to amend its certificate to add France as an additional point in Europe, i.e., to add the following authority: Between the United States via intermediate points, on the one hand, and France and beyond, on the other hand.

Renee V. Wright,
Program Manager, Docket Operations, Federal Register Liaison.

[FR Doc. E6-11037 Filed 7-12-06; 8:45 am]

BILLING CODE 4910-9X-P